DEPARTMENT OF AGRICULTURE

Forest Service

Proposed CERCLA Settlement Agreement; Silver Bow County, MT

AGENCY: Forest Service, USDA.

ACTION: Notice; request for public comment.

SUMMARY: In accordance with Section 122(i) of the Comprehensive Environmental Response, Compensation, and Liability Act, as amended (“CERCLA”), 42 U.S.C. 9622(i), notice is hereby given of an administrative settlement with the owners of an 18-acre parcel (the Settling Parties) within the Beal Mine site in Silver Bow County, Montana. The settlement requires the Settling Parties to convey the parcel to the United States. The settlement includes a covenant not to sue the Settling Parties pursuant Section 107(a) of CERCLA, 42 U.S.C. 9607(a), with regard to the Beal Mine Site. For thirty (30) days following the date of publication of this notice, the United States will receive written comments relating to the settlement. The United States will consider all comments received and may modify or withdraw its consent to the settlement if comments received disclose facts or considerations which indicate that the settlement is inappropriate, improper, or inadequate.

DATES: Comments must be submitted on or before May 7, 2008.

ADDRESSES: The proposed settlement is available for public inspection at the Butte Ranger District/Supervisor's Office Annex of the Beaverhead-Deerlodge National Forest, 1820 Meadowlark Lane, Butte, MT 59701. A copy of the proposed settlement may be obtained from Gary E. Howard at the Butte Ranger District/Supervisor's Office Annex at (406) 494-0228 or from Kirk Minckler with USDA's Office of the General Counsel, (303) 275-5549. Comments should reference the Revelation Lode Parcel, Silver Bow County, Montana, and should be addressed to Mr. Howard at the Butte Ranger District/Supervisor's Office Annex. The United States' response to any comments received will be available for public inspection at the Butte Ranger District/Supervisor's Office Annex.

FOR FURTHER INFORMATION CONTACT: For additional information contact Gary E. Howard, Butte Ranger District/Supervisor's Office Annex, Beaverhead Deerlodge National Forest, 1820 Meadowlark Lane, Butte, MT 59701, phone (406) 494-0228 or Kirk Minckler, USDA Office of the General Counsel, 740 Simms Street, Room 309, Golden, CO 80401, phone (303) 275-5549.

Dated: March 21, 2008.
Thomas L. Tidwell,
Regional Forester, USDA Forest Service, Northern Region.

[FR Doc. E8-6853 Filed 4-4-08; 8:45 am]

BILLING CODE 3410-11-M